DEPARTMENT OF COMMERCE

National Oceanic and Atmospheric Administration

[I.D. 071405A]

Endangered and Threatened Species; Take of Anadromous Fish

AGENCY: National Marine Fisheries Service (NMFS), National Oceanic and Atmospheric Administration (NOAA), Commerce

ACTION: Issuance of scientific research permits and permit modifications and permit amendment.

SUMMARY: Between November 5, 2004, and June 15, 2005, NMFS' Northwest Region issued 23 permits and permit modifications (and one permit amendment) allowing endangered and threatened species of Pacific salmon and steelhead to be taken for scientific research purposes under the Endangered Species Act (ESA) of 1973, as amended. The research actions and the species they affect are listed in the SUPPLEMENTARY INFORMATION section below.

ADDRESSES: The permits, permit applications, and related documents are available for review during business hours by appointment at NMFS' Protected Resources Division, F/NWO3, 1201 NE Lloyd Blvd., Suite 1100, Portland, OR 97232-1274 (ph: 503-230-5400, fax: 503-230-5441).

FOR FURTHER INFORMATION CONTACT: Garth Griffin, Portland, OR (phone: 503-231-2005, fax: 503-230-5441, e-mail: Garth.Griffin@noaa.gov).

SUPPLEMENTARY INFORMATION:

Authority

The ESA requires that permits, modifications, and amendments be issued based on findings that such actions: (1) are applied for in good faith; (2) would not operate to the disadvantage of the listed species that are the subject of the actions; and (3) are consistent with the purposes and policies set forth in section 2 of the ESA. Authority to take listed species is subject to conditions set forth in the permits. Permits, modifications, and amendments are issued in accordance with, and are subject to, the ESA and NMFS' regulations governing listed fish and wildlife permits (50 CFR parts 222-226).

Species Covered in This Notice

The ESA-listed species/evolutionarily significant units (ESUs) covered by this notice are identified below and listed in the subsequent table by the numbers that precede each of them in the following text:

(1) Threatened Puget Sound Chinook salmon (Oncorhynchus tshawytscha)

(2) Threatened Lower Columbia River (LCR) Chinook salmon (O. tshawytscha)

(3) Threatened Snake River (SR) spring/summer Chinook salmon (O. tshawytscha)

(4) Threatened SR fall Chinook salmon (O. tshawytscha)

(5) Endangered Upper Columbia River (UCR) spring-run Chinook salmon (O. tshawytscha)

(6) Threatened Upper Willamette River (UWR) Chinook salmon (O. tshawytscha)

(7) Threatened Hood Canal summer-run chum salmon (O. keta)

(8) Threatened Columbia River chum salmon (O. keta)

(9) Threatened LCR steelhead (O. mykiss)

(10) Threatened Middle Columbia River steelhead (O. mykiss)

(11) Threatened SR steelhead (O. mykiss)

(12) Threatened UWR steelhead (O. mykiss)

(13) Endangered UCR steelhead (O. mykiss)

(14) Threatened Southern Oregon/Northern California Coasts coho salmon (O. kisutch)

(15) Candidate Oregon Coast coho salmon (O. kisutch)

(16) Endangered SR sockeye salmon (O. nerka)

(17) Threatened Ozette lake sockeye salmon (O. nerka)

Table 1. Twenty-four Scientific Research Permit Actions Affecting Listed Pacific Salmonids
Permit Number | Affected Species/ESUs | Permittee | FEDERAL REGISTER Notice of Application Receipt
1119M2 | 5, 13 | U.S. Fish and Wildlife Service (FWS) | April 28, 2005 (70 FR 22001)
1135Am1 | 9 | U.S. Geological Survey (USGS) | April 12, 2002 (67 FR 17970)
1322M3 | 2, 3, 4, 5, 6, 8, 9, 10, 11, 12, 13 | Northwest Fisheries Science Center (NWFSC) | February 15, 2005 (70 FR 7719)
1338M1 | 2, 8, 9 | FWS | April 28, 2005 (70 FR 22001)
1403M1 | 3, 10, 11 | NWFSC | July 26, 2004 (69 FR 44511)
1410M2 | 2, 3, 4, 5, 6, 8, 9, 10, 11, 12, 13, 14, 15, 16, 17 | NWFSC | March 23, 2005 (70 FR 14657)
1479M1 | 2, 8, 9 | USGS | March 23, 2005 (70 FR 14657)
1487 | 2, 8, 9 | FWS | July 26, 2004 (69 FR 44511)
1496 | 9 | U.S. Forest Service (USFS) | July 26, 2004 (69 FR 44511)
1498 | 1 | Port of Bellingham | September 7, 2004 (69 FR 54131)
1499 | 1 | Battelle Marine Sciences Laboratory | October 14, 2004 (69 FR 60986)
1500 | 3, 4, 11, 16 | University of Idaho | July 26, 2004 (69 FR 44511)
1502 | 5, 13 | USFS | September 7, 2004 (69 FR 54131)
1504 | 1, 7 | Pacific Shellfish Institute | September 7, 2004 (69 FR 54131)
1511 | 14 | Oregon Department of Fish and Wildlife (ODFW) | November 18, 2004 (69 FR 67541)
1513 | 1 | Washington Trout | February 15, 2005 (70 FR 7719)
1515 | 6 | Water Work Consulting | January 3, 2005 (70 FR 2395)
1519 | 2, 3, 4, 5, 6, 8, 9, 10, 11, 12, 13, 16 | Columbia River Estuary Study Taskforce | February 15, 2005 (70 FR 7719)
1521 | 1 | Wyllie-Echeverria Associates | February 15, 2005 (70 FR 7719)
1523 | 6, 12 | National Council for Air and Stream Improvements | March 23, 2005 (70 FR 14657)
1524 | 1 | NWFSC | March 23, 2005 (70 FR 14657)
1525 | 2, 3, 4, 5, 6, 8, 9, 10, 11, 12, 13 | NWFSC | March 23, 2005 (70 FR 14657)
1531 | 14 | Southern Oregon University | April 28, 2005 (70 FR 22001)
1532 | 10 | Columbia River Intertribal Fish Commission | April 28, 2005 (70 FR 22001)

It should also be noted that permit 1203, noticed on September 7, 2004 (69 FR 54131) was withdrawn by the applicant.

Dated: July 21, 2005.
Donna Wieting,
Deuty Director, Office of Protected Resources, National Marine Fisheries Service.

[FR Doc. 05-14720 Filed 7-25-05; 8:45 am]

BILLING CODE 3510-22-S